DEPARTMENT OF HEALTH AND HUMAN SERVICES

Food and Drug Administration

[Docket No. FDA-2014-N-2032]

Request for Nominations for Voting Members on the Food Advisory Committee

AGENCY: Food and Drug Administration, HHS.

ACTION: Notice.

SUMMARY: The Food and Drug Administration (FDA) is requesting nominations for voting members to serve on the Food Advisory Committee, Office of Regulations, Policy, and Social Sciences, Center for Food Safety and Applied Nutrition. FDA seeks to include the views of women and men, members of all racial and ethnic groups, and individuals with and without disabilities on its advisory committees and, therefore, encourages nominations of appropriately qualified candidates from these groups.

DATES: Nominations received on or before January 30, 2015, will be given first consideration for membership on the Food Advisory Committee. Nominations received after January 30, 2015, will be considered for nomination to the committee as later vacancies occur.

ADDRESSES: All nominations for membership should be submitted electronically by logging into the FDA Advisory Committee Membership Nomination Portal: https://www.accessdata.fda.gov/scripts/FACTRSPortal/FACTRS/index.cfm, by mail to Advisory Committee Oversight and Management Staff, Food and Drug Administration, 10903 New Hampshire Ave., Bldg. 32, Rm. 5103, Silver Spring, MD 20993-0002, or by FAX to 301-847-8640.

Information about becoming a member on an FDA advisory committee can also be obtained by visiting FDA's Web site at http://www.fda.gov/AdvisoryCommittees/default.htm.

FOR FURTHER INFORMATION: Regarding all nominations questions for membership, the primary contact is: Karen Strambler, Office of Regulations, Policy, and Social Sciences, Center for Food Safety and Applied Nutrition, 5100 Paint Branch Pkwy., Rm. 1C-016, College Park, MD 20740, 240-402-2589, FAX: 301-436-2637, FoodAdvisoryCommittee@fda.hhs.gov.

SUPPLEMENTARY INFORMATION: FDA is requesting nominations for voting members on the Food Advisory Committee.

I. General Description of the Committee Duties

The Food Advisory Committee provides advice to the Commissioner of Food and Drugs and other appropriate officials on emerging food safety, food science, nutrition, and other food-related health issues that FDA considers of primary importance for its food and cosmetics programs. The Committee may be charged with reviewing and evaluating available data and making recommendations on matters such as those relating to: (1) Broad scientific and technical food- or cosmetic-related issues; (2) the safety of food ingredients and new foods; (3) labeling of foods and cosmetics; (4) nutrient needs and nutritional adequacy; and (5) safe exposure limits for food contaminants. The Committee may also be asked to provide advice and make recommendations on ways of communicating to the public the potential risks associated with these issues and on approaches that might be considered for addressing the issues.

II. Criteria for Voting Members

The Committee consists of a core of 15 voting members including the Chair. Members and the Chair are selected by the Commissioner or designee from among individuals knowledgeable in the fields of food science, microbiology, epidemiology, pediatric immunology, nutrition, food technology, biochemistry, and environmental health. Members are invited to serve for overlapping terms of up to 4 years.

Almost all non-Federal members of this committee serve as Special Government Employees. Of the 15 members who vote, 2 are technically qualified members identified with consumer interests. In addition to the voting members, the Committee has two nonvoting members who are identified with industry interests.

III. Nomination Procedures

Any interested person may nominate one or more qualified individuals for membership on the Committee. Self-nominations are also accepted. Nominations must include a current résumé or curriculum vitae for each nominee, including a current business address and/or home address, telephone number, and email address if available. Nominations must also specify the advisory committee for which the nominee is recommended. Nominations must also acknowledge that the nominee is aware of the nomination unless self-nominated. FDA will ask potential candidates to provide detailed information concerning such matters as financial holdings, employment, research grants, and/or contracts to permit evaluation of possible sources of conflicts of interest.

This notice is issued under the Federal Advisory Committee Act (5 U.S.C. app. 2) and 21 CFR part 14, relating to advisory committees.

Dated: December 5, 2014.
Jill Hartzler Warner,
Associate Commissioner for Special Medical Programs.

[FR Doc. 2014-28889 Filed 12-9-14; 8:45 am]

BILLING CODE 4164-01-P